DEPARTMENT OF DEFENSE

Office of the Secretary

32 CFR Part 88

[Docket ID: DOD-2019-OS-0079]

RIN 0790-AK80

Transition Assistance Program (TAP) for Military Personnel

AGENCY: Under Secretary of Defense for Personnel and Readiness, Department of Defense (DoD).

ACTION: Final rule.

SUMMARY: This final rule removes the regulation concerning the DoD Transition Assistance Program (TAP). TAP provides information and training to ensure Service members and eligible spouses transitioning from active-duty are prepared for their next step in life, whether it is to pursue additional education, find a job in the public or private sector, or start their own business. This part summarizes the benefits in statute and internal policy. Therefore, this part is duplicative and unnecessary and should be removed from the CFR.

DATES: Effective Date: This rule is effective on September 13, 2019.

FOR FURTHER INFORMATION CONTACT: Ronald H. Horne, (703) 614-8631.

SUPPLEMENTARY INFORMATION: It has been determined that publication of this CFR part removal for public comment is impracticable, unnecessary, and contrary to public interest since it is based on removing DoD internal policies and procedures that are publicly available on the Department's website.

DoD internal guidance will continue to be published in DoD Instruction 1332.35, “Transition Assistance Program,” at https://www.esd.whs.mil/Directives/issuances/dodi/.

Removal of this part does not reduce burden or costs to the public as it will not change how transition assistance is provided to caregivers, spouses and dependents of eligible Service members.

This rule is not significant under Executive Order (E.O.) 12866, “Regulatory Planning and Review.” Therefore, the requirements of E.O. 13771, “Reducing Regulation and Controlling Regulatory Costs,” do not apply.

List of Subjects in 32 CFR Part 88

Employment, Military personnel.

PART 88-[REMOVED]

Accordingly, by the authority of 5 U.S.C. 301, 32 CFR part 88 is removed.

Dated: September 10, 2019.
Aaron T. Siegel,
Alternate OSD Federal Register Liaison Officer, Department of Defense.

[FR Doc. 2019-19868 Filed 9-12-19; 8:45 am]

BILLING CODE 5001-06-P